DEPARTMENT OF THE INTERIOR

Minerals Management Service

Environmental Documents Prepared for Proposed Oil and Gas Operations on the Alaska Outer Continental Shelf

AGENCY: Minerals Management Service (MMS), Interior.

ACTION: Notice of the Availability of Environmental Documents Prepared for Outer Continental Shelf (OCS) Mineral Exploration Proposal on the Alaska OCS.

SUMMARY: The Minerals Management Service (MMS), in accordance with Federal regulations (40 CFR 1501.4 and 1506.6) that implement the National Environmental Policy Act (NEPA), announces the availability of a NEPA-related Environmental Assessment prepared by the MMS for oil and gas exploration activities proposed on the Alaska OCS. This listing includes the only proposal for which the Alaska OCS Office prepared a Finding of No Significant Impact (FONSI) in the 3-month period preceding this Notice.

FOR FURTHER INFORMATION CONTACT: For matters pertaining to this notice, contact Mr. Paul Stang (Alaska OCS Region, Anchorage) at (907) 271-6045. The FONSI and associated EA are available for public inspection between the hours of 7:45 a.m. and 4:30 p.m., Monday through Friday at: Minerals Management Service, Alaska OCS Region, Resource Center, 949 East 36th Avenue, Anchorage, Alaska 99508-4363, phone (907) 271-6070 or (907) 271-6621 or toll free at 1-800-764-2627. Request may also be sent to MMS at akwebmaster@mms.gov.

SUPPLEMENTARY INFORMATION: The proposal is for exploratory-drilling operations that would be conducted in accordance with the OCS Lands Act. The purpose of the Environmental Assessment (EA) is to evaluate the probable environmental effects of the operations, described in the Exploration Plan (EP) for McCovey #1 Well, Beaufort Sea, Alaska, dated September 19, 2000. The McCovey drill site would be located approximately 12.5 miles northeast of West Dock at Prudhoe Bay, 60 miles northeast of Nuiqsut, 7 miles northwest of Cross Island, and 110 miles northwest of Kaktovik in the Beaufort Sea.

The methods by which the exploratory well would be drilled are detailed in the EP and in the associated Environmental Report and Oil Discharge Prevention and Contingency Plan. Additional details about the proposed operations are included in Federal Register Notice 65 FR 60407 dated October 11, 2000, summarizing Phillip's (Alaska) Inc. application for an Incidental Harassment Authorization from the National Marine Fisheries Service.

Location: Lease:OCS-1577; Block: 6515.

EA Number: AK 00-01.

FONSI Date: October 19, 2000.

MMS prepares EA's and FONSI's for proposals which relate to exploration for oil and gas resources on the Alaska OCS. The EA's examine the potential environmental effects of activities described in the proposals and present MMS conclusions regarding the significance of those effects. The EA is used as a basis for determining whether or not approvals of the proposals constitute major Federal actions that significantly affect the quality of the human environment in accordance with NEPA 102(2)(C). A Finding Of No Significant Impact (FONSI) is prepared in those instances where MMS finds that approval will not result in significant effects on the quality of the human environment. The FONSI briefly presents the basis for that finding and includes a summary or copy of the EA.

This Notice constitutes the public Notice of Availability of environmental documents required under the NEPA regulations. Persons interested in reviewing environmental documents for the proposal listed above, or in obtaining information about EA's and FONSI's prepared for activities on the Alaska OCS, are encouraged to contact the Alaska OCS Regional Office of MMS.

Dated: February 13, 2001.
Carolita U. Kallaur,
Associate Director for Offshore Minerals Management.

[FR Doc. 01-4037 Filed 2-16-01; 8:45 am]

BILLING CODE 4310-MR-P